DEPARTMENT OF HOMELAND SECURITY

[Docket No. CISA-2022-0018]

Extension of the Comment Period

AGENCY: Cybersecurity and Infrastructure Security Agency, DHS.

ACTION: Extension of comment period.

SUMMARY: The Infrastructure Security Division (ISD) within the Cybersecurity and Infrastructure Security Agency (CISA) is extending the comment period for the Information Collection Request (ICR) 1670-0007, Request to Revise and Extend the Chemical Security Assessment Tool (CSAT), published in the Federal Register on April 20, 2023. CISA is extending the comment period through May 26, 2023.

DATES: Comments are due by May 26, 2023.

ADDRESSES: Written comments and recommendations for this ICR should be sent to www.reginfo.gov/public/do/PRAMain. Find this information collection by selecting “Currently under 30-day Review-Open for Public Comments” or by using the search function. All submissions received must include the agency name “CISA” and docket number CISA-2022-0018.

Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in FOR FURTHER INFORMATION CONTACT section.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Annie Hunziker Boyer, 703-603-5000, CISARegulations@cisa.dhs.gov.

SUPPLEMENTARY INFORMATION: On Thursday April 20, 2023, CISA published a Federal Register notice requesting comments for 30 days through www.reginfo.gov/public/do/PRAMain.⁴ The ability to submit comments was not available through the designated website until Monday April 24, 2023, a delay of four days.

⁴ See 88 FR 24435.

Under 5 CFR 1320.10(b), the public must be provided at least 30 days for public comment after OMB's receipt of the proposed collection of information. To ensure that the public can take advantage of the full 30-days required under 5 CFR part 1320 to provide comment, CISA is extending the comment period stated in its prior notice to match the closure of the 30-day comment period on the designated website.

Robert Costello,
Chief Information Officer, Cybersecurity and Infrastructure Security Agency, Department of Homeland Security.

[FR Doc. 2023-10151 Filed 5-11-23; 8:45 am]

BILLING CODE 9110-9P-P